Title 3—

The President

Proclamation 9443 of May 6, 2016

National Women's Health Week, 2016

By the President of the United States of America

A Proclamation

Throughout our history, women have contributed to shaping the course of our country—and with each generation, they have helped affirm the timeless belief that everyone deserves an equal shot at reaching for our Nation's promise. We have achieved great progress in tearing down barriers that deny women equal opportunities, but we still have more to do to ensure that health care is a right for every American, regardless of sex or gender. This week, we recommit to ensuring equal access to high-quality care for women and to building a more prosperous, healthy future.

Ensuring women can live full and healthy lives is vital, and central to that mission is improving the quality, affordability, and accessibility of health care for women. Because of the Affordable Care Act (ACA), insurance companies can no longer charge women more than men or use preexisting conditions—including pregnancy—to deny them the care they need.

Twenty million Americans have gained health insurance since the passage of the ACA, including roughly 9.5 million women since the first open enrollment period in 2013. Under the Act, annual limits on out-of-pocket spending for essential health benefits have been established, and lifetime and annual limits on insurance coverage have been eliminated. For 55 million women, critical preventive services, including well-woman visits, certain cancer screenings, and domestic violence screenings and counseling sessions, are now guaranteed with no out-of-pocket costs. Access to preventive care can help identify and diagnose conditions early, benefiting countless women across our Nation.

The important decisions that affect a woman's health should be left to her alone. Today, efforts around our country to weaken access to contraception and to limit a woman's right to choose threaten to reverse decades of hard-won progress. It is crucial we reject actions that obstruct women's access to sexual and reproductive health services and stand firm in protecting their access to safe, affordable health care and the constitutional right to privacy, including the right to reproductive freedom.

National Women's Health Week is an opportunity to refocus our commitment to advancing women's health and ensuring a healthy future for all our Nation's women and girls. To learn more about women's health, and for health care options available for women and girls, visit www.WomensHealth.gov or www.GirlsHealth.gov.

NOW, THEREFORE, I, BARACK OBAMA, President of the United States of America, by virtue of the authority vested in me by the Constitution and the laws of the United States, do hereby proclaim May 8 through May 14, 2016, as National Women's Health Week. I encourage all Americans to celebrate the progress we have made in protecting women's health and to promote awareness, preventive care, and educational activities that improve the health of all women.

IN WITNESS WHEREOF, I have hereunto set my hand this sixth day of May, in the year of our Lord two thousand sixteen, and of the Independence of the United States of America the two hundred and fortieth.

[FR Doc. 2016-11298

Filed 5-10-16; 11:15 am]

Billing code 3295-F6-P